ENVIRONMENTAL PROTECTION AGENCY

[OPPTS-51940; FRL-6486-5]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from December 6, 1999 to December 31, 1999, consists of the PMNs, pending or expired, and the notices of commencement to manufacture a new chemical that the Agency has received under TSCA section 5 during this time period.

ADDRESSES: Comments may be submitted by mail, electronically, or in person. Please follow the detailed instructions for each method as provided in Unit I. of the “SUPPLEMENTARY INFORMATION.” To ensure proper receipt by EPA, it is imperative that you identify docket control number OPPTS-51940 and the specific PMN number in the subject line on the first page of your response.

FOR FURTHER INFORMATION CONTACT: Joe Carra, Deputy Director, Office of Pollution Prevention and Toxics (7401), Office of Pollution Prevention and Toxics, Environmental Protection Agency, 401 M St., SW., Washington, DC 20460; telephone numbers: (202) 554-1404 and TDD: (202) 554-0551; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under “FOR FURTHER INFORMATION CONTACT.”

B. How Can I Get Additional Information, Including Copies of this Document and Other Related Documents?

1. Electronically. You may obtain copies of this document and certain other available documents from the EPA Internet Home Page at http://www.epa.gov/. On the Home Page select “Laws and Regulations” and then look up the entry for this document under the “Federal Register—Environmental Documents.” You can also go directly to the “Federal Register” listings at http://www.epa.gov/fedrgstr/.

2. In person. The Agency has established an official record for this action under docket control number OPPTS-51940. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 401 M St., SW., Washington, DC. The Center is open from noon to 4 p.m., Monday through Friday, excluding legal holidays. The telephone number of the Center is (202) 260-7099.

C. How and to Whom Do I Submit Comments?

You may submit comments through the mail, in person, or electronically. To ensure proper receipt by EPA, it is imperative that you identify docket control number OPPTS-51940 and the specific PMN number in the subject line on the first page of your response.

1. By mail. Submit your comments to: Document Control Office (7407), Office of Pollution Prevention and Toxics (OPPT), Environmental Protection Agency, 401 M St., SW., Washington, DC 20460.

2. In person or by courier. Deliver your comments to: OPPT Document Control Office (DCO) in East Tower Rm. G-099, Waterside Mall, 401 M St., SW., Washington, DC. The DCO is open from 8 a.m. to 4 p.m., Monday through Friday, excluding legal holidays. The telephone number for the DCO is (202) 260-7093.

3. Electronically. You may submit your comments electronically by e-mail to: “oppt.ncic@epa.gov,” or mail your computer disk to the address identified in this unit. Do not submit any information electronically that you consider to be CBI. Electronic comments must be submitted as an ASCII file avoiding the use of special characters and any form of encryption. Comments and data will also be accepted on standard disks in WordPerfect 6.1/8.0 or ASCII file format. All comments in electronic form must be identified by docket control number OPPTS-51940 and the specific PMN number. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under “FOR FURTHER INFORMATION CONTACT.”

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this document.

8. To ensure proper receipt by EPA, be sure to identify the docket control number assigned to this action in the subject line on the first page of your response. You may also provide the name, date, and Federal Register citation.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from December 6, 1999 to December 31, 1999, consists of the PMNs, pending or expired, and the notices of commencement to manufacture a new chemical that the Agency has received under TSCA section 5 during this time period.

III. Receipt and Status Report for PMNs

This status report identifies the PMNs, pending or expired, and the notices of commencement to manufacture a new chemical that the Agency has received under TSCA section 5 during this time period. If you are interested in information that is not included in the following tables, you may contact EPA as described in Unit II. to access additional non-CBI information that may be available.

In table I, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 81 Premanufacture Notices Received From: 12/06/99 to 12/31/99
Case No. | Received Date | Projected Notice End Date | Manufacturer/Importer | Use | Chemical
P-00-0309 | 12/06/99 | 03/05/00 | Eastman Chemical Company | (S) Plastic additive | (G) Substituted phtyalocyanine dye
P-00-0310 | 12/06/99 | 03/05/00 | CBI | (G) For use as an exterior coating for aluminum “easy open ends” for the beer and beverage can market | (G) Acrylic polyester resin
P-00-0311 | 12/06/99 | 03/05/00 | The Dow Chemical Company | (S) Chemical intermediate for use on site | (G) Alkylphenol, potassium salt
P-00-0312 | 12/06/99 | 03/05/00 | The Dow Chemical Company | (G) Fuel additive and chemical intermediate | (G) Alkaryl polyoxyalkylene derivatives
P-00-0313 | 12/06/99 | 03/05/00 | The Dow Chemical Company | (G) Fuel additive and chemical intermediate | (G) Alkaryl polyoxyalkylene derivative
P-00-0314 | 12/06/99 | 03/05/00 | CBI | (G) Copying material | (G) Triphenylamine derivative
P-00-0315 | 12/07/99 | 03/06/00 | CBI | (G) Electronics thermosetting adhesive | (G) Amino novolac
P-00-0316 | 12/07/99 | 03/06/00 | CBI | (S) Antioxidant and /or stabilizer for coating | (G) Propanoic acid, 3-(alkylthio)-, thiobis (alkylphenylene ester
P-00-0317 | 12/08/99 | 03/07/00 | Dow Corning Corporation | (S) Silicone textile treatment | (G) Amino-functional siloxane
P-00-0318 | 12/07/99 | 03/06/00 | Ciba Specialty Chemicals Corporation | (G) Textive dye | (G) Cuprate(6-), [2-[[[[3-[[4-fluoro-6- [[2-[[4-fluoro-6-[[4- [(sulfonated alkyl) azo]phenyl] amino] -1,3,5-triazin-2-yl]amino]-1-methylethyl]amino] -1,3,5-triazin-2-yl]amino]-2-(hydroxy-.kappa.0)-5-sulfophenyl]azo-.kappa.n2] phenylmethyl]azo-.kappa.n1]-4-sulfobenzoate (8-)]-, potassium sodium*
P-00-0319 | 12/07/99 | 03/06/00 | CBI | (G) Wax | (G) Benzenedicar- boxylic acid, alkyl alkylaminocarbonyloxyethyl ester
P-00-0320 | 12/07/99 | 03/06/00 | CBI | (G) Component of coating with open use | (G) Blocked isocyanate
P-00-0321 | 12/07/99 | 03/06/00 | CBI | (G) Additive for manufacture of articles | (G) Polyamide amine epichlorohydrin resin
P-00-0322 | 12/07/99 | 03/06/00 | CBI | (G) Additive for manufacture of articles | (G) Polyamide amine epichlorohydrin resin
P-00-0323 | 12/07/99 | 03/06/00 | CBI | (G) Additive for manufacture of articles | (G) Polyamide amine epichlorohydrin resin
P-00-0324 | 12/07/99 | 03/06/00 | CBI | (G) Additive for manufacture of articles | (G) Polyamide amine epichlorohydrin resin
P-00-0325 | 12/07/99 | 03/06/00 | CBI | (G) Chemical process intermediate | (G) Polyamide amine
P-00-0326 | 12/09/99 | 03/08/00 | CBI | (G) Additive for plastics and plastic surfaces; additive for surface coatings | (G) Aliphatic urethane
P-00-0327 | 12/09/99 | 03/08/00 | CBI | (G) Inhibitor | (G) Amine salt
P-00-0328 | 12/10/99 | 03/09/00 | CBI | (G) Intermediate for exterior coating for aluminum beer and beverage can ends | (G) Maleic anhydride polyester
P-00-0329 | 12/13/99 | 03/12/00 | CBI | (G) Open non-dispersive (resin) | (G) Aliphatic polyisocyanate
P-00-0330 | 12/13/99 | 03/12/00 | CBI | (S) Chemical intermediate | (S) Oxirane, [[[(1r,2s,5r)-5-methyl-2-(1-methylethyl) cyclohexyl] oxy]methyl]-*
P-00-0331 | 12/13/99 | 03/12/00 | CBI | (S) Thickener for water-based binders in non-woven systems | (G) Vinylpyrrolidone vinylester copolymer
P-00-0332 | 12/13/99 | 03/12/00 | CBI | (S) Adhesion promotor for coatings | (G) Olefinic adhesion promotor
P-00-0333 | 12/14/99 | 03/13/00 | CBI | (G) Additive | (G) Salt of an acrylate copolymer
P-00-0334 | 12/14/99 | 03/13/00 | CBI | (G) Additive | (G) Salt of an acrylate terpolymer
P-00-0335 | 12/13/99 | 03/12/00 | Dainippon Ink and Chemicals, Inc. | (S) Uv curable resin for uv inks | (G) Polyurethane resin
P-00-0336 | 12/13/99 | 03/12/00 | Cytec Industries Inc. | (G) Flocculant in oil/water separation, soil erosion stabilizer in irrigation farming, flocculant in municiple, mining and industrial waste water. | (G) Liquid anionic polymer
P-00-0337 | 12/13/99 | 03/12/00 | Cytec Industries Inc. | (G) Flocculant in oil/water separation, soil erosion stabilizer in irrigation farming, flocculant in municiple, mining and industrial waste water. | (G) Liquid anionic polymer
P-00-0338 | 12/14/99 | 03/13/00 | International Specialty Products | (S) Intermediate for photographic dyes | (S) 1-(2,5-dimethoxy-phenyl)-propan-2-one*
P-00-0339 | 12/14/99 | 03/13/00 | International Specialty Products | (S) Intermediate in production of photographic dyes | (S) 1-(2,5-dimethoxy-phenyl)-propanol*
P-00-0340 | 12/15/99 | 03/14/00 | Condea Vista Company | (S) Formulation of paraffin inhibitors for processing crude oil | (S) 2-propenoic acid, 2-methyl-, 2-hydroxyethyl ester, polymer with ethene, ethenyl acetate and 2-ethylhexyl 2-propenoate*
P-00-0341 | 12/15/99 | 03/14/00 | CBI | (S) An intermediate that will be isolated and used in the manufacture of an industrial coating that cures under exposure of ultra violet light | (G) Urethane acrylate
P-00-0342 | 12/15/99 | 03/14/00 | CBI | (G) Open, non-dispersive use | (G) Blocked isocyanate polymer
P-00-0343 | 12/15/99 | 03/14/00 | Novartis Crop Protection, Inc. | (S) Intermediate in the manufacture of an intermediate of a fungicide | (S) Ethanone, 1-[3-(trifluoromethyl)phenyl]-, oxime*
P-00-0344 | 12/15/99 | 03/14/00 | CBI | (S) Base fluid for hydraulic fluids; base fluid for engine lubricants | (G) Mixed polyol-glycerol fatty aid ester
P-00-0345 | 12/15/99 | 03/14/00 | CBI | (G) Component of coating with open use | (G) Styrene acrylate
P-00-0346 | 12/14/99 | 03/13/00 | CBI | (G) Petroleum additive | (G) Alkylated phenol
P-00-0347 | 12/16/99 | 03/15/00 | CBI | (G) Open non-dispersive (polyurethane microcellular elastomer) | (G) Aromatic isocyanate
P-00-0348 | 12/15/99 | 03/14/00 | CBI | (G) Wax | (G) N,N′-bis (octadecanoyl) hexylenediamine, or hexamethyl enebiss tearamide*
P-00-0349 | 12/16/99 | 03/15/00 | Ciba Specialty Chem. Corp., Colors Division | (G) Textile dye | (G) Benzoic acid, 3,5-diamino-2,4-bis[[4-[[2-(sulfooxy)ethyl] sulfonyl]azo]-6-[[2-sulfo-4-[substituted]phenyl]azo]-, sodium salt
P-00-0350 | 12/17/99 | 03/16/00 | CBI | (G) Open,non-dispersive use. | (G) Ketimine functional oligomer
P-00-0351 | 12/16/99 | 03/15/00 | CBI | (G) Dye | (G) Sulphonated azo dye
P-00-0352 | 12/16/99 | 03/15/00 | CBI | (G) Open non-dispersive (additive) | (G) Organic disulfide
P-00-0353 | 12/17/99 | 03/16/00 | CBI | (G) Additive for surface coatings;additive for plastics and plastic surfaces | (G) Aliphatic urethane
P-00-0354 | 12/17/99 | 03/16/00 | CBI | (G) Adhesive component | (G) Polyester-polyvinyl modified mdi-based polyurethane
P-00-0355 | 12/17/99 | 03/16/00 | International Specialty Products | (S) Dye transfer inhibitor for detergents | (S) Acetic acid, chloro-, sodium salt, cmpd. with 4-ethenylpyridine homopolymer*
P-00-0356 | 12/21/99 | 03/20/00 | Pilot Chemical Company | (G) Chemical intermediate - destructive use | (G) Alkarylsulfonic acid.
P-00-0357 | 12/21/99 | 03/20/00 | CBI | (G) An open non-dispersive use | (G) Polyether - type polyurethane
P-00-0358 | 12/20/99 | 03/19/00 | CBI | (G) Copying material | (G) Triphenylamine derivative
P-00-0359 | 12/20/99 | 03/19/00 | Ruetgers Organics Corporation | (S) Ph adjuster | (G) Alkylnaphthalenesulfonic acid
P-00-0360 | 12/20/99 | 03/19/00 | Arizona Chemical | (S) Tackifier for adhesives & hot melts | (G) Modified terpene-phenol resin
P-00-0361 | 12/22/99 | 03/21/00 | Reichhold, Inc. | (G) Coating additive | (G) Triethylamine salt of aliphatic urethane polymer
P-00-0362 | 12/22/99 | 03/21/00 | CBI | (G) Adhesive component | (G) 1,1′ methylenebis [isocyanatobenzene], polymer with polyether polyols, a polyester polyol, and a modified polyvinyl copolymer
P-00-0363 | 12/27/99 | 03/26/00 | CBI | (G) Open-non-dispersive (co-reactant) | (G) Asphatic ester
P-00-0364 | 12/27/99 | 03/26/00 | CBI | (G) Open, non-dispersive use | (G) Copper complex of (substituted sulfonaphthyl azo substituted phenyl) disulfonaphthyl azo, amine salt
P-00-0365 | 12/27/99 | 03/26/00 | CBI | (G) Destructive use | (G) Copper complex of (substituted sulfonaphthyl azo substituted phenyl) disulfonaphthyl azo, salt
P-00-0366 | 12/28/99 | 03/27/00 | CBI | (S) Intermediate synthesis for higher molecular weight polymer used in sheet molding; intermediate synthesis for higher molecular weight polymer used in injection molding | (G) Alloy of polyolefin and polyamide
P-00-0367 | 12/28/99 | 03/27/00 | CBI | (S) Intermediate synthesis for higher molecular weight polymer used in sheet molding; intermediate synthesis for higher molecular weight polymer used in injection molding | (G) Alloy of polyolefin and polyamide
P-00-0368 | 12/27/99 | 03/26/00 | CBI | (S) Thermal developer for paper | (G) Benzenesulfon- amide derivative
P-00-0369 | 12/27/99 | 03/26/00 | Bedoukian Research, Inc. | (S) Agricultural pheromone for use as sole active ingredient in monitoring traps. 40 CFR 152.10(b) (not pesticide);agricultural phenomone for use as sole active ingredient in traps to achieve pest control. 40 CFR 152.25(b)(4). | (S) 5-nonanone, 4-methyl-
P-00-0370 | 12/28/99 | 03/27/00 | CBI | (S) Precursor used in the manufacture of acrylic monomer | (G) Aliphatic alcohol
P-00-0371 | 12/27/99 | 03/26/00 | CBI | (G) Halogenating chemical intermediate for industrial chemical synthesis reactions | (G) Halogenated boron - alkyl cyanide complex
P-00-0372 | 12/28/99 | 03/27/00 | CBI | (S) Monomer used in the manufacturer of acrylic polymers | (G) Acrylic monomer
P-00-0373 | 12/28/99 | 03/27/00 | CBI | (S) Raw material used in the manufacture of photoresist | (G) P-hydroxystyrene-methacrylate copolymer
P-00-0374 | 12/27/99 | 03/26/00 | CBI | (S) Polymer for adhesive manufacture | (G) Isocyanate functional polycarbamoyl (polyalkylene oxide)polyurea oligomer
P-00-0375 | 12/27/99 | 03/26/00 | CBI | (S) Crosslinking urethane resin for coatings applied by electrode position | (G) Polyurethane crosslinking resin blocked with me et ketone oxime
P-00-0376 | 12/29/99 | 03/28/00 | CBI | (S) Reactive dye for finishing cellulosic fabrics | (S) 1,5-naphthalenedisulfonic acid, 2(or 3)-[[8-amino-7-[[5-[[4-[4-[2-[[4-[[3-[[1-amino-7-[[1,5 (or 4,8) -disulfo-2-naphthalenyl]azo]-8-hydroxy-3,6-disulfo-2-naphthalenyl]azo]-4-sulfophenyl]amino]-6-chloro-1,3,5-triazin-2-yl]amino]-2-sulfophenyl]azo]-1-hydroxy-3,6-disulfo-2-naphthalenyl]azo]-, sodium salt*
P-00-0377 | 12/27/99 | 03/26/00 | Daikin America, Inc. | (S) Risin for paint | (G) Fluoroolefin copolymer
P-00-0378 | 12/28/99 | 03/27/00 | CBI | (S) used to formulate water-based adhesive for technical lamination | (G) Polyester-polyurethane-elastomer dispersion
P-00-0379 | 12/28/99 | 03/27/00 | Vianova Resins Inc., Mallard Creek Center | (S) Resin in automotive coatings | (G) Blocked polyurethane resin, amine salt
P-00-0380 | 12/28/99 | 03/27/00 | International Specialty Products | (S) Intermediate in production of photographic dyes | (S) Benzeneethanol, 2,5-dimethoxy-.alpha.-methyl*
P-00-0381 | 12/29/99 | 03/28/00 | CBI | (S) Elastomer resin for spinning into fiber* | (S) 1,4-benzenedicar- boxylic acid, dimethyl ester, polymer with a-hydro-omega-hydroxypoly(oxy-1,4-butanediyl) and 1,3-propanediol*
P-00-0382 | 12/29/99 | 03/28/00 | CBI | (S) Elastomer resin for spinning into fiber* | (S) 1,4-benzenedicarboxylic acid, dimethyl ester, polymer with 1,3-propanediol, tetrahydrofuran and tetrahydro-3-methylfuran*
P-00-0383 | 12/29/99 | 03/28/00 | CBI | (G) Component of coating with open use | (G) Water dispersible cationic acrylic resin
P-00-0384 | 12/29/99 | 03/28/00 | CBI | (G) Component of coating with open use | (G) Water dispersible cationic acrylic resin
P-00-0385 | 12/29/99 | 03/28/00 | CBI | (G) Component of coating with open use | (G) Water dispersible cationic acrylic resin
P-00-0386 | 12/29/99 | 03/28/00 | CBI | (G) Component of coating with open use | (G) Water dispersible cationic acrylic resin
P-00-0387 | 12/29/99 | 03/28/00 | CBI | (G) Component of coating with open use | (G) Water dispersible cationic acrylic resin
P-00-0388 | 12/29/99 | 03/28/00 | CBI | (G) Component of coating with open use | (G) Water dispersible cationic acrylic resin
P-00-0390 | 12/29/99 | 03/28/00 | CBI | (G) Component of low viscosity industrial lubricant | (S) C10 to C24 branched alkanes*

In table II, EPA provides the following information (to the extent that such information is not claimed as CBI) on the Notices of Commencement to manufacture received:

II. 46 Notices of Commencement From: 12/06/99 to 12/31/99
Case No. | Received Date | Commencement/Import Date | Chemical
P-94-2136 | 12/10/99 | 12/06/99 | (G) Polyalphaolefins
P-96-1162 | 12/13/99 | 11/13/99 | (G) Fatty acids, C18-unsatd. dimers, polymers with ethylenediamine, a dibasic acid, diamines and a mono-basic acid.
P-96-1624 | 12/13/99 | 12/06/99 | (G) Quaternary ammonium salt
P-97-0677 | 12/14/99 | 11/19/99 | (G) Mixed alkyl aluminoxanes
P-97-1007 | 12/10/99 | 12/01/99 | (G) Polyurethane prepolymer
P-98-0408 | 12/06/99 | 11/03/99 | (G) Substituted styrene-acrylate polymer
P-98-0937 | 12/09/99 | 12/07/99 | (G) Polyester polyether urethane block copolymer
P-98-0947 | 12/09/99 | 12/07/99 | (G) Polyester polyether urethane block copolymer
P-98-1006 | 12/16/99 | 11/19/99 | (G) Amino substituted butyric acid ester
P-99-0277 | 12/07/99 | 11/29/99 | (G) 2,7-naphthalenedisulfonic acid, 5-substituted-4-hydroxy-3-substituted azo, salt
P-99-0523 | 12/09/99 | 12/01/99 | (G) Substituted polyoxyethylene
P-99-0549 | 12/10/99 | 11/11/99 | (G) Polyester urethane polymer
P-99-0698 | 12/17/99 | 12/08/99 | (G) Aliphatic, aromatic polyol
P-99-0708 | 12/13/99 | 11/26/99 | (G) Epoxy-isocyanate co-polymer
P-99-0775 | 12/14/99 | 11/24/99 | (G) Alkyl methacrylate copolymer
P-99-0777 | 12/13/99 | 11/24/99 | (G) Alkyl methacrylate copolymer
P-99-0815 | 12/14/99 | 12/04/99 | (G) Complex acids/amine condensation products
P-99-0900 | 12/17/99 | 12/06/99 | (G) Quinoline dyestuff
P-99-0917 | 12/10/99 | 11/24/99 | (G) Methacrylate polymer
P-99-0919 | 12/10/99 | 11/24/99 | (G) Methacrylate copolymer
P-99-0933 | 12/13/99 | 11/24/99 | (G) Alkyl methacrylate copolymer
P-99-0990 | 12/17/99 | 12/10/99 | (G) Cobaltate (5-, bis[4-[[6-[(substituted)-1,3,5-triazin-2-yl) amino]-1-hydroxy-3-sulfo-2-naphthalenyl]azo]-3-hydroxy-7-substituted-1-naphthalenesulfonato(4-)]-, pentasodium
P-99-0999 | 12/07/99 | 11/11/99 | (G) Polyoxyethylene derivative
P-99-1010 | 12/09/99 | 11/24/99 | (G) Substituted butanoic acid
P-99-1011 | 12/09/99 | 11/20/99 | (G) Substituted halo butanoic acid, ester
P-99-1012 | 12/09/99 | 11/21/99 | (G) Substituted butanoic acid, ester
P-99-1022 | 12/13/99 | 12/01/99 | (G) Triazolo thiadiazinyl substituted acetamide
P-99-1025 | 12/13/99 | 12/01/99 | (G) Substituted butanoic acid, heterocyclic hydrazide
P-99-1048 | 12/20/99 | 12/13/99 | (G) Polycarbonate polyol
P-99-1067 | 12/13/99 | 11/15/99 | (G) Poly (arylene ether)
P-99-1069 | 12/06/99 | 11/24/99 | (G) Polyalkoxylated aromatic amine tint
P-99-1168 | 12/10/99 | 11/29/99 | (G) Acrylic emulsion copolymer
P-99-1169 | 12/10/99 | 11/29/99 | (G) Acrylic emulsion copolymer
P-99-1170 | 12/10/99 | 11/29/99 | (G) Acrylic emulsion copolymer
P-99-1171 | 12/10/99 | 11/29/99 | (G) Acrylic emulsion copolymer
P-99-1175 | 12/13/99 | 12/02/99 | (G) Triazolo thiadiazinyl amino substituted acetamide
P-99-1176 | 12/14/99 | 11/24/99 | (S) Hexanoic acid, 2-bromo-, methyl ester*
P-99-1200 | 12/06/99 | 11/10/99 | (S) Alcohols, C11-14-isoalkyl, C13-rich, butoxylated ethoxylated*
P-99-1230 | 12/14/99 | 11/25/99 | (S) 1,3-benzenedicarboxylic acid, polymer with 2-butyl-2-ethyl-1,3-propanediol, 1,4-cyclohexanedicarboxylic acid, 2-ethyl-2-(hydroxymethyl)-1,3-propanediol, hexanedioic acid and 1,3-isobenzofurandione, 2-hydroxy-3-[(1-oxoneodecyl)oxy]propyl ester, 3-oxobutanoate*
P-99-1231 | 12/10/99 | 12/07/99 | (S) Siloxanes and silicones, di-me, me hydrogen, me pr, reaction products with polyethylene-polypropylene glycol allyl bu ether and polyethylene-polypropylene glycol monoally ether*
P-99-1250 | 12/09/99 | 12/01/99 | (G) Polyester polyol polyurethane and organopolysiloxane containing hydroxy group copolymer
P-99-1284 | 12/14/99 | 12/05/99 | (G) Substituted benzenesulfonyl chloride*
P-99-1285 | 12/14/99 | 12/08/99 | (G) Substituted benzenesulfinic acid salt
P-99-1290 | 12/16/99 | 12/03/99 | (G) Substituted hydroxyphenyl halosubstituted benzamide
P-99-1303 | 12/14/99 | 12/07/99 | (G) Substituted hydroxyhalophenyl halobenzamide
P-99-1304 | 12/09/99 | 11/30/99 | (G) Substituted benzenesulfonic acid salt

List of Subjects

Environmental protection, Chemicals, Premanufacture notices, Test marketing exemptions.

Dated: January 12, 2000,
Deborah A. Williams,
Acting Director, Information Management Division, Office of Pollution Prevention and Toxics.

[FR Doc. 00-1549 Filed 1-21-00; 8:45 am]

BILLING CODE 6560-50-F